DEPARTMENT OF HEALTH AND HUMAN SERVICES

Centers for Medicare & Medicaid Services

Medicare, Medicaid, and CHIP Programs: Research and Analysis on Impact of CMS Programs on the Indian Health Care System

AGENCY: Centers for Medicare & Medicaid Services (CMS), HHS.

ACTION: Notice of Single Source Award.

SUMMARY: This notice supports expansion of research on the impact of CMS programs on the Indian health care system through a single source award. The Indian Health Service (IHS), Tribes and Tribal Organizations and Urban programs, deliver health care services to American Indian/Alaska Native (AI/AN) people through a network of hospitals, clinics and other providers. This award expands research on the impact of CMS programs and the delivery of health care to AI/AN beneficiaries.

FOR FURTHER INFORMATION CONTACT: Rodger Goodacre, Centers for Medicare & Medicaid Services, Office of Public Affairs/Tribal Affairs Group, 7500 Security Boulevard, M/S S1-05-13, Baltimore, MD 21244-1850, (410) 786-3209.

Intended Recipient: National Indian Health Board (NIHB).

Purpose of Award

The IHS and Tribal health programs have had long standing authority to bill Medicare and Medicaid for services provided at their facilities. These participating and billing authorities were expanded by the American Recovery and Reinvestment Act of 2009 (ARRA), the Children's Health Insurance Program Reauthorization Act of 2009 (CHIPRA), and the Affordable Care Act in 2010 (ACA). AI/AN people have traditionally been medically underserved and have health disparities significantly above those of the population as a whole. In order to ensure that AI/AN people have full knowledge of these new changes and the fullest access to CMS programs, this award will study the adoption and impact of these new authorities on the Indian health care system.

Amount of the Award

The total amount of funding available over a five year period is $3,175,000.00. The initial award will be awarded at $635,000.00. The subsequent years will be awarded on a non-competing continuation basis at approximately $635,000.00 per year for 5 total years, and will be subject to the availability of funds and satisfactory performance by the recipient.

Justification for Single Source Award

For the past five years through Cooperative Agreements with IHS, NIHB has provided analysis and research of the potential and actual impact of CMS programs on AI/AN beneficiaries and the health care system serving these beneficiaries. This work has included extensive analysis and research on Medicare and Medicaid data enrollment of AI/AN beneficiaries to understand utilization of the AI/AN population in the context of CMS programs. In addition, the NIHB has been instrumental in tracking CMS regulations and providing analysis and research to better understand the implications of CMS regulatory guidance on the Indian health programs. Based on this experience, NIHB is the only entity capable of carrying out the scope of activities because the scope of work builds on past experience and knowledge. Any other source would not have all of the knowledge and experience gained in the last five years. The NIHB provides research on health program issues impacting AI/ANs to over 565 Federally-recognized Tribes and has historically provided these services for several decades in conjunction with the HIS. The NIHB program has a national focus relevant to its AI/AN constituency who need to know through substantive research about the changes and updates in the latest health care services and access through CMS programs.

Project Period

The anticipated period of performance is for this cooperative agreement is August 31, 2012 through August 30, 2017 with funding awarded in 12-month budget increments subject to the availability of funds and satisfactory performance.

Provisions of the Notice

CMS has solicited a proposal from the NIHB to undertake analysis, research and studies to address the impact of CMS programs and AI/AN beneficiaries and the health care system serving those beneficiaries. The project consists of four principal research objectives:

• Study the ongoing impact of CMS programs on the Indian health system through analysis of, response to, and implementation of CMS regulations by Indian health providers.

• Study AI/AN demographic, enrollment, and utilization data and propose strategies to increase CMS data system capabilities to create more Indian specific reporting capacity.

• Provide ongoing study of CMS efforts to increase AI/AN knowledge of CMS programs and CMS responsiveness to Indian health system.

• Provide research support on the use and effectiveness of the CMS Tribal Consultation Policy. CMS requested that the NIHB submit an application which includes:

1. Cover Letter.

2. SF-424 Application for Federal Assistance.

3. SF-424A Budget Information—Non-Construction Programs.

4. A budget narrative (not to exceed three single spaced pages).

5. Abstract of Project.

6. A research project narrative that describes each of the four separate objectives (the entire narrative not to exceed 12 single space pages).

7. SF-424B Assurances.

8. Health Board Resolution.

9. 501(c)(3) Non-Profit certification.

10. Resumes of all key personnel.

11. Position descriptions.

12. Disclosure of Lobbying Activities, if applicable.

13. Copy of approved indirect cost rate agreement, if applicable.

14. Documentation of current OMB A-133 required financial audit, if applicable.

Evaluation criteria for review of the application will be comprised of three principal areas:

a. Program information which includes current organizational capabilities and operations.

b. Program planning and evaluation which includes identification of measurable goals, products, personnel and workplanning.

c. Program reporting which includes organizational capabilities and qualifications and categorical budget and justification.

Authority: Section 1110 of the Social Security Act, codified at 42 U.S.C. 1310.

Dated: August 16, 2012.
Daniel F. Kane,
Chief Grants Management Officer, Office of Acquisition and Grants Management, Centers for Medicare & Medicaid Services.

[FR Doc. 2012-22189 Filed 9-7-12; 8:45 am]

BILLING CODE 4120-01-P